DEPARTMENT OF TRANSPORTATION

Federal Aviation Administration

14 CFR Part 71

[Docket No. FAA-2023-1528; Airspace Docket No. 23-ASW-9]

RIN 2120-AA66

Amendment of VOR Federal Airways V-20, V-222, V-289, V-552, V-569 and V-574, and Establishment of United States Area Navigation (RNAV) Routes T-483 and T-485 in the Vicinity of Beaumont, TX

AGENCY: Federal Aviation Administration (FAA), DOT.

ACTION: Notice of proposed rulemaking (NPRM).

SUMMARY: This action proposes to amend Very High Frequency (VHF) Omnidirectional Range (VOR) Federal airways V-20, V-222, V-289, V-552, V-569, and V-574, and establish United States Area Navigation (RNAV) routes T-483 and T-485. The FAA is proposing this action due to the planned decommissioning of the VOR portion of the Beaumont, TX (BPT), VOR/Distance Measuring Equipment (VOR/DME) navigational aid (NAVAID). The Beaumont VOR is being decommissioned in support of the FAA's VOR Minimum Operational Network (MON) program.

DATES: Comments must be received on or before August 28, 2023.

ADDRESSES: Send comments identified by FAA Docket No. FAA-2023-1528 and Airspace Docket No. 23-ASW-9 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX, 76177.

Incorporation by Reference

VOR Federal airways are published in paragraph 6010(a) and United States Area Navigation Routes (T-routes) are published in paragraph 6011 of FAA Order JO 7400.11, Airspace Designations and Reporting Points, which is incorporated by reference in 14 CFR 71.1 on an annual basis. This document proposes to amend the current version of that order, FAA Order JO 7400.11G, dated August 19, 2022, and effective September 15, 2022. These updates would be published in the next update to FAA Order JO 7400.11. That order is publicly available as listed in the ADDRESSES section of this document.

FAA Order JO 7400.11G lists Class A, B, C, D, and E airspace areas, air traffic service routes, and reporting points.

Background

The FAA is planning to decommission the Beaumont, TX, VOR in March 2024. The Beaumont VOR was one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Beaumont, TX, VOR/DME is planned for decommissioning, the co-located DME portion of the NAVAID is being retained to support NextGen PBN flight procedure requirements.

The VOR Federal airways affected by the Beaumont VOR decommissioning are V-20, V-222, V-289, V-552, V-569, and V-574. With the planned decommissioning of the Beaumont VOR, the remaining ground-based NAVAID coverage in the area is insufficient to enable the continuity of the affected airways. As such, proposed modifications to V-20 and V-222 would result in gaps in those airways and to V-289, V-552, V-569, and V-574 would result in the airways being shortened.

To address the proposed modifications to the affected VOR Federal airways, instrument flight rules (IFR) traffic could use portions of adjacent VOR Federal airways V-70, V-194, V-306, and V-407, or receive air traffic control (ATC) radar vectors to fly through or around the affected area. Additionally, IFR pilots operating aircraft equipped with RNAV capabilities could also use RNAV routes T-224 and T-254 or navigate point to point using the existing fixes and waypoints that would remain in place to support continued operations though the affected area. Visual flight rules pilots who elect to navigate via the affected ATS routes could also take advantage of the adjacent ATS routes or ATC services listed previously.

Further, the FAA proposes to establish two new RNAV routes, T-483 and T-485, that pilots of aircraft equipped with RNAV capabilities could use to navigate point to point in support of continued operations though the affected area. RNAV route T-483 would mitigate the proposed removal of the affected V-289 airway segment and RNAV route T-485 would mitigate the proposed removal of the affected V-569 airway segment. The new T-routes would provide RNAV equipped aircraft ATS route alternatives between the SHWNN, TX, waypoint (WP) located near the Beaumont, TX, VOR/DME and the Lufkin, TX, VOR/Tactical Air Navigation (VORTAC), reduce ATC sector workload and complexity, reduce pilot-to-controller communication, and support the FAA's continued NextGen efforts to modernize the NAS navigation system from a ground-based system to a satellite-based system.

The Proposal

The FAA is proposing to amend 14 CFR part 71 to amend VOR Federal airways V-20, V-222, V-289, V-552, V-569, and V-574, and establish RNAV routes T-483 and T-485. The ATS route amendments and establishments are due to the planned decommissioning of the VOR portion of the Beaumont, TX, VOR/DME. The proposed ATS route actions are described below.

V-20: V-20 currently extends between the McAllen, TX, VOR/DME and the Palacios, TX, VORTAC; between the Beaumont, TX, VOR/DME and the Montgomery, AL, VORTAC; and between the Athens, GA, VOR/DME and the Richmond, VA, VORTAC. The airspace on the main airway above 14,000 feet MSL from Mc Allen to 49 miles northeast and the airspace within Mexico is excluded. The FAA proposes to remove the airway segment between the Beaumont VOR/DME and the Lake Charles, LA, VORTAC. Additionally, the exclusion for the airspace on the main airway above 14,000 feet MSL from Mc Allen to 49 miles northeast would be removed as it has not been required since the V-20 south alternate airway was removed in 1994 and there is no operational requirement to retain it. Further, the exclusion for the airspace within Mexico would be removed as the airway does not extend into Mexico's airspace. As amended, the airway would extend between the McAllen VOR/DME and the Palacios VORTAC, between the Lake Charles VORTAC and the Montgomery VORTAC, and between the Athens VOR/DME and the Richmond VORTAC.

V-222: V-222 currently extends between the El Paso, TX, VORTAC and the intersection of the LaGrange, GA, VORTAC 048° and Rome, GA, VORTAC 166° radials (TIROE fix). The FAA proposes to remove the airway segment between the Humble, TX, VORTAC and the Lake Charles, LA, VORTAC. As amended, the airway would extend between the El Paso VORTAC and the Humble VORTAC and between the Lake Charles VORTAC and the intersection of the LaGrange VORTAC 048° and Rome VORTAC 166° radials (TIROE fix).

V-289: V-289 currently extends between the Beaumont, TX, VOR/DME and the Vichy, MO, VOR/DME. The FAA proposes to remove the airway segment between the Beaumont VOR/DME and the Lufkin, TX, VORTAC. As amended, the airway would extend between the Lufkin VORTAC and Vichy VOR/DME.

V-552: V-552 currently extends between the Beaumont, TX, VOR/DME and the Monroeville, AL, VORTAC. The airspace within restricted area R-4403F is excluded during its times of use. The FAA proposes to remove the airway segment between the Beaumont VOR/DME and the Lake Charles, LA, VORTAC. As amended, the airway would extend between the Lake Charles VORTAC and the Monroeville VORTAC.

V-569: V-569 currently extends between the Beaumont, TX, VOR/DME and the Cedar Creek, TX, VORTAC. The FAA proposes to remove the airway segment between the Beaumont VOR/DME and the Lufkin, TX, VORTAC. As amended, the airway would extend between the Lufkin VORTAC and the Cedar Creek VORTAC.

V-574: V-574 currently extends between the Centex, TX, VORTAC and the Lake Charles, LA, VORTAC. The FAA proposes to remove the airway segment between the Daisetta, TX, VORTAC and the Lake Charles VORTAC. As amended, the airway would extend between the Centex VORTAC and the Daisetta VORTAC.

T-483: T-483 is a new RNAV route proposed to extend between the SHWNN, TX, WP, located near the Beaumont, TX, VOR/DME and the Lufkin, TX (LFK), VORTAC. The proposed T-483 would provide mitigation for the proposed removal of the V-289 airway segment between the Beaumont VOR/DME and the Lufkin VORTAC. The full T-483 route description is listed in the amendments to part 71 as set forth below.

T-485: T-485 is a new RNAV route proposed to extend between the SHWNN, TX, WP, located near the Beaumont, TX, VOR/DME and the Lufkin, TX (LFK), VORTAC. The proposed T-485 would provide mitigation for the proposed removal of the V-569 airway segment between the Beaumont VOR/DME and the Lufkin VORTAC. The full T-485 route description is listed in the amendments to part 71 as set forth below.

The NAVAID radials listed in the VOR Federal airway descriptions in the Proposed Amendment section below are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-20 [Amended]

From Mc Allen, TX; INT Mc Allen 038° and Corpus Christi, TX, 178° radials; 10 miles 8 miles wide, 37 miles 7 miles wide (3 miles E and 4 miles W of centerline), Corpus Christi; INT Corpus Christi 054° and Palacios, TX, 226° radials; to Palacios. From Lake Charles, LA; Lafayette, LA; Reserve, LA; INT Reserve 084° and Gulfport, MS, 247° radials; Gulfport; Semmes, AL; INT Semmes 048° and Monroeville, AL, 231° radials; Monroeville; to Montgomery, AL. From Athens, GA; Electric City, SC; Sugarloaf Mountain, NC; Barretts Mountain, NC; South Boston, VA; to Richmond, VA.

* * * * *

V-222 [Amended]

From El Paso, TX; Salt Flat, TX; Fort Stockton, TX; 20 miles, 116 miles, 55 MSL, Junction, TX; Stonewall, TX; INT Stonewall 113° and Industry, TX, 267° radials; Industry; INT Industry 101° and Humble, TX, 259° radials; to Humble. From Lake Charles, LA; McComb, MS; Eaton, MS; Monroeville, AL; Montgomery, AL; LaGrange, GA; to INT LaGrange 048° and Rome, GA, 166° radials.

* * * * *

V-289 [Amended]

From Lufkin, TX; Gregg County, TX; Texarkana, AR; Fort Smith, AR; Harrison, AR; Dogwood, MO; INT Dogwood 058° and Vichy, MO, 204° radials; to Vichy.

* * * * *

V-552 [Amended]

From Lake Charles, LA; INT Lake Charles 064° and Lafayette, LA, 281° radials; Lafayette; Tibby, LA; Harvey, LA; Picayune, MS; Semmes, AL; INT Semmes 063° and Monroeville, AL, 216° radials; to Monroeville. The airspace within restricted area R-4403F is excluded during its times of use.

* * * * *

V-569 [Amended]

From Lufkin, TX; Frankston, TX; to Cedar Creek, TX.

* * * * *

V-574 [Amended]

From Centex, TX; INT Centex 116° and Navasota, TX, 258° radials; Navasota; Humble, TX; to Daisetta, TX.

* * * * *

Paragraph 6011 United States Area Navigation Routes.

* * * * *

T-483 SHWNN, TX to Lufkin, TX (LFK) [New]
SHWNN, TX | WP | (Lat. 29°56′45.94″ N, long. 094°00′57.73″ W)
HONEE, TX | FIX | (Lat. 30°24′21.96″ N, long. 094°24′59.99″ W)
Lufkin, TX (LFK) | VORTAC | (Lat. 31°09′44.79″ N, long. 094°43′00.60″ W)
* * * * * * *
T-485 SHWNN, TX to Lufkin, TX (LFK) [New]
SHWNN, TX | WP | (Lat. 29°56′45.94″ N, long. 094°00′57.73″ W)
ROMER, TX | FIX | (Lat. 30°44′47.33″ N, long. 094°23′33.01″ W)
Lufkin, TX (LFK) | VORTAC | (Lat. 31°09′44.79″ N, long. 094°43′00.60″ W)

* * * * *

Issued in Washington, DC, on July 10, 2023.
Karen L. Chiodini,
Acting Manager, Airspace Rules and Regulations.

[FR Doc. 2023-14839 Filed 7-12-23; 8:45 am]

BILLING CODE 4910-13-P